DEPARTMENT OF COMMERCE

Foreign-Trade Zones Board

[Order No. 1447]

Approval For Expansion Of Subzone 70T, Marathon Petroleum Company, LLC, (Oil Refinery), Wayne County, Michigan

Pursuant to its authority under the Foreign-Trade Zones Act of June 18, 1934, as amended (19 U.S.C. 81a-81u), the Foreign-Trade Zones Board (the Board) adopts the following Order:

Whereas, the Greater Detroit Foreign Trade Zone, Inc., grantee of FTZ 70, has requested authority on behalf of Marathon Petroleum Company LLC (Marathon) (formerly Marathon Ashland Petroleum LLC), to expand the scope of manufacturing activity conducted under zone procedures within Subzone 70T at the Marathon oil refinery complex in Wayne County, Michigan (FTZ Docket 44-2005, filed 09-19-2005);

Whereas, notice inviting public comment has been given in the Federal Register (70 FR 56889, 9/29/05); and,

Whereas, the Board adopts the findings and recommendations of the examiner's report, and finds that the requirements of the FTZ Act and the Board's regulations would be satisfied, and that approval of the application would be in the public interest if approval is subject to the conditions listed below;

Now, therefore, the Board hereby approves the expansion of the scope of activity at Subzone 70T for the manufacture of petroleum products at the Marathon Petroleum Company LLC refinery complex located in Wayne County, Michigan, as described in the application and the Federal Register notice, subject to the FTZ Act and the Board's regulations, including § 400.28, and further subject to the following conditions:

1. Foreign status (19 CFR §§ 146.41, 146.42) products consumed as fuel for the refinery shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

- petrochemical feedstocks and refinery by-products (examiners report, Appendix “C”);

- products for export;

- and, products eligible for entry under HTSUS # 9808.00.30 and# 9808.00.40 (U.S. Government purchases).

Signed at Washington, DC, this 14th day of April 2006.

David M. Spooner,
Assistant Secretary of Commerce for Import Administration, Alternate Chairman, Foreign-Trade Zones Board.
Attest:
Dennis Puccinelli,
Executive Secretary.

[FR Doc. E6-6217 Filed 4-24-06; 8:45 am]

BILLING CODE 3510-DS-S